DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, provides the general public and Federal agencies with an opportunity to comment on proposed and/or continuing collections of information in accordance with the Paperwork Reduction Act. The Bureau of Labor Statistics (BLS) is soliciting comments concerning the new information collection of the “U.S. Business Response Survey and Job Openings and Labor Turnover Survey Supplement.” A copy of the proposed information collection request can be obtained by contacting the individual listed below in the ADDRESSES section of this notice.

DATES: Written comments must be submitted to the office listed in the ADDRESSES section of this notice on or before September 29, 2020.

ADDRESSES: Send comments to Carol Rowan, BLS Clearance Officer, Division of Management Systems, Bureau of Labor Statistics, Room 4080, 2 Massachusetts Avenue NE, Washington, DC 20212. Written comments also may be transmitted by email to BLS_PRA_Public@bls.gov.

FOR FURTHER INFORMATION CONTACT: Carol Rowan, BLS Clearance Officer, 202-691-7628 (this is not a toll free number). (See ADDRESSES section.)

SUPPLEMENTARY INFORMATION:

I. Background

On July 9, 2020, the Office of Management and Budget (OMB) granted approval under the emergency approval provisions of the Paperwork Reduction Act for the Bureau of Labor Statistics (BLS) to begin collecting the U.S. Business Response Survey (BRS) and Job Openings and Labor Turnover Survey (JOLTS) Supplement. The BRS and JOLTS Supplement capture information about changes to businesses since the onset of the novel coronavirus pandemic. The same questionnaire will be conducted as a large, one-time survey as well as a one-time supplemental survey to March 2020 JOLTS sample members. The large sample will allow the BLS to quickly collect and disseminate information related to how businesses have changed since the onset of the novel coronavirus pandemic. The supplemental survey to March 2020 JOLTS sample members will allow for specific business changes related to the coronavirus pandemic to be directly linked to JOLTS data.

The BRS and JOLTS Supplement seeks to identify changes to business operations, employment and workforce flexibilities, and benefits that occurred from the onset of the coronavirus pandemic to when the survey is fielded. This collection will provide critical information that will complement the standard economic data BLS and the federal statistical system will publish for the same time period and provide policy makers and data users additional information that could help to inform decisions.

II. Method of Collection

The BRS will use the BLS business register, based on the Quarterly Census of Employment and Wages, maintained by BLS as its sampling frame. The register contains employment information on establishments in the U.S. subject to unemployment insurance taxes. This register covers 98 percent of U.S. jobs, available at the county, Metropolitan Statistical Area, State, and national levels by industry. The main BRS will go to a nationally representative sample of the U.S. economy and be large enough to allow for state and industry estimates.

The supplemental JOLTS collection will offer valuable context to the responses about employment and hiring decisions made at the industry and state-level. The sample will allow an analysis of the BRS collected information with the longitudinal JOLTS establishment staffing patterns prior to and after completing the BRS. This is a unique analysis from the primary sample, and adds a valuable dimension to understanding business responses to the coronavirus pandemic. These data will be used separately from the BRS sample.

The collection is being conducted entirely on-line, using the existing data collection instrument of the Annual Refiling Survey as a platform for conducting the BRS. The use of existing information technology will minimize government costs and respondent burden.

Collection of the BRS and JOLTS Supplement will enable the BLS to facilitate a collection of information on how the coronavirus pandemic has changed American businesses and the U.S. economy. BLS expects to publish survey results nationally, by state, by sector, and where possible by state and sector.

The BRS, in combination with data collected by current BLS surveys, could help in understanding how businesses responded during the pandemic. Specifically, other BLS statistics could provide indications of changes in employment, wages, job openings and terminations, employer-provided benefits, and safety and health, but will not be able to determine if any changes in levels were related to the coronavirus pandemic. Only by asking employers directly what they experienced, and how they responded to the pandemic, can data users be able to draw meaningful conclusions.

The additional collection of the JOLTS Supplement will benefit the JOLTS program by offering valuable context to the responses about employment and hiring decisions made at the industry and state-level. These data will be used separately from the BRS sample in analyzing and understanding the job openings and closings data reported in the JOLTS survey and will make it unnecessary for the JOLTS program to request emergency clearance to add questions to the existing survey.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: U.S. Business Response Survey.

OMB Number: 1220-0197.

Type of Review: New collection.

Affected Public: Businesses or other for profits; Farms; Non-profit institutions.

Total Respondents: 152,698.

Frequency: One time.

Total Responses: 152,698.

Average Time per Response: 10 minutes.

Estimated Total Burden Hours: 25,450 hours.

Comments submitted in response to this notice will be summarized and/or included in the request for Office of Management and Budget approval of the information collection request; they also will become a matter of public record.

Signed at Washington, DC, on July 28, 2020.
Mark Staniorski,
Division of Management Systems.

[FR Doc. 2020-16639 Filed 7-30-20; 8:45 am]

BILLING CODE 4510-24-P